DEPARTMENT OF COMMERCE

National Oceanic and Atmospheric Administration

RIN 0648-XJ01

North Pacific Fishery Management Council; Public Meeting

AGENCY: National Marine Fisheries Service (NMFS), National Oceanic and Atmospheric Administration (NOAA), Commerce.

ACTION: Notice of a crab workshop

SUMMARY: The North Pacific Fishery Management Council's (NPFMC) will host a Crab Workshop.

DATES: The meeting will be held on August 11, 2008, from 8:30 a.m. to 5 p.m.

ADDRESSES: The meeting will be held at the Anchorage Hilton Hotel, 500 West 3rd Avenue, Lupine Room, Anchorage, AK.

Council address: North Pacific Fishery Management Council, 605 W. 4th Ave., Suite 306, Anchorage, AK 99501-2252.

FOR FURTHER INFORMATION CONTACT: Mark Fina, NPFMC; telephone: (907) 271-2809.

SUPPLEMENTARY INFORMATION: A workshop to assist crew in the refinement of proposals for presentation to the crab committee at its September 15th meeting. The workshop is not intended to generate any specific crew consensus or recommendation. Instead, the workshop is intended to assist crew members and their representatives in the drafting of purpose and need statements and reformulation of their proposals as alternatives, elements, and options in a form typically considered by the Council. Crew members and their representatives could then present their revised proposals to the committee for its consideration. The committee report to the Council will include any proposals received and a summary of the committee's discussions of those proposals.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under section 305 ( c ) of the Magnuson-Stevens Act, provided the public has been notified of the NPFMC's intent to take final action to address the emergency.

Special Accommodations

This meeting is physically accessible to people with disabilities. Requests for sign language interpretation or other auxiliary aids should be directed to Gail Bendixen, (907) 271-2809, at least 5 working days prior to the meeting date.

Dated: July 9, 2008.
Tracey L. Thompson,
Acting Director, Office of Sustainable Fisheries, National Marine Fisheries Service.

[FR Doc. E8-15892 Filed 7-11-08; 8:45 am]

BILLING CODE 3510-22-S